DEPARTMENT OF COMMERCE

International Trade Administration

[A-588-845]

Extension of Time Limit for the Final Results of the Antidumping Duty Administrative Review: Stainless Steel Sheet and Strip in Coils From Japan

AGENCY: Import Administration, International Trade Administration, Department of Commerce.

ACTION: Notice of extension of time limit for the final results of the antidumping duty administrative review of stainless steel sheet and strip in coils from Japan.

SUMMARY: The Department of Commerce (“Department”) is extending the time limit for the final results of the review of stainless steel sheet and strip in coils from Japan. This review covers the period January 4, 1999 through June 30, 2000.

EFFECTIVE DATE: December 6, 2001.

FOR FURTHER INFORMATION CONTACT: Juanita H. Chen or James C. Doyle, Enforcement Group III, Import Administration, International Trade Administration, U.S. Department of Commerce, 1401 Constitution Avenue, NW., Washington, DC 20230; telephone: 202-482-0409, or 202-482-0159, respectively.

Statutory Time Limits

Section 751(a)(3)(A) of the Tariff Act of 1930, as amended (“Act”), requires the Department of Commerce (“Department”) to issue the final results of an antidumping duty administrative review within 120 days of the date on which the preliminary results are published. However, if the Department concludes that it is not practicable to complete the review within the time period, the Department may extend the 120-day period to 180 days.

Background

On September 6, 2000, the Department published a notice of initiation of the administrative review of stainless steel sheet and strip in coils from Japan, covering the period January 4, 1999 through June 30, 2000. See Notice of Initiation of Antidumping and Countervailing Duty Administrative Reviews and Requests for Revocation in Part, 65 FR 53980 (September 6, 2000). The preliminary results of this administrative review were published in the Federal Register on August 8, 2001. See Notice of Preliminary Results of Antidumping Duty Administrative Review: Stainless Steel Sheet and Strip in Coils from Japan, 66 FR 41543 (August 8, 2001) (“Preliminary Results”). The current due date for the final results is December 6, 2001.

Extension of Time Limits for the Final Results

Due to the complexity of issues present in this administrative review, such as home market affiliated downstream sales and complicated cost accounting issues, it is not practicable to complete this review within the original time period. Therefore, the Department has postponed the deadline for issuing the final results until February 4, 2002, which is 180 days after publication of the Preliminary Results in this administrative review.

Dated: November 30, 2001.
Barbara E. Tillman,
Acting Deputy Assistant Secretary for Import Administration, Group III.

[FR Doc. 01-30287 Filed 12-5-01; 8:45 am]

BILLING CODE 3510-DS-P